DEPARTMENT OF TRANSPORTATION

Federal Motor Carrier Safety Administration

[Docket No. FMCSA-2008-0035]

Agency Information Collection Activities; Revision of an Approved Information Collection: Hours of Service (HOS) of Drivers Regulations, Supporting Documents

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. On November 26, 2007, FMCSA published a Federal Register notice allowing for a 60-day comment period on the ICR. Thirty-eight comments were received, but none spoke to the paperwork burden or other aspects of the ICR.

DATES: Please send your comments by April 18, 2008. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Thomas Yager, Chief, FMCSA Driver and Carrier Operations Division. Telephone: 202-366-4325. E-mail: MCPSD@dot.gov.

SUPPLEMENTARY INFORMATION: Title: Hours of Service (HOS) of Drivers Regulations, Supporting Documents (formerly Hours of Service of Drivers Regulations).

OMB Control Number: 2126-0001.

Type of Request: Revision of a currently-approved information collection.

Respondents: Motor Carriers, Drivers of commercial motor vehicles (CMVs).

Estimated Number of Respondents:

Drivers: approximately 4.6 million;

Active Motor Carriers: approximately 700,000.

Estimated Time per Response: The driver will take an average of 6.5 minutes to fill out a record of duty status (RODS), and 5 minutes to forward the completed RODS to the employing motor carrier. The motor carrier takes an average of 2 minutes to review a RODS, 1 minute per day to maintain a RODS, and 1 minute per day to maintain the supporting documents of one RODS.

Expiration Date: 11/30/2008.

Frequency of Response:

Drivers: 240 days per year, on average.

Motor Carriers: 240 days per year, on average.

Total Number of Annual Responses Expected

A. Driver

(1) Filling Out the RODS: 1,104,000,000 (4.6 million drivers × 240 days);

(2) Forwarding the RODS to the Motor Carrier: 115 million (4.6 million drivers × 25 times per year ) and

(3) Forwarding the Supporting Documents to the Motor Carrier: 0 (the activity is usual and customary).

B. Motor Carrier

(1). Reviewing the RODS: 552 million (2.3 million RODS reviewed daily × 240 days);

(2). Maintaining the RODS: 1,104,000,000 (4.6 million drivers × 240 days); and

(3). Maintaining the Supporting Documents: 1,104,000,000 (4.6 million drivers × 240 days).

Estimated Total Annual Burden: 184,380,000 hours [driver burden of 129,180,000 and motor carrier burden of 55,200,000 hours] .

Background:

The FMCSA regulates the amount of time a driver may drive and be on duty. A CMV driver must keep a record of duty status (RODS), commonly referred to as a logbook, that indicates his or her duty status (driving, on duty not driving, off duty, sleeper berth) for all periods of the duty day. The RODS must be maintained on the CMV for 7 days, and subsequently submitted to the motor carrier along with any “supporting documents,” such as fuel receipts and toll tickets, that could assist in verifying the accuracy of entries on the RODS. The motor carrier must retain the RODS and supporting documents for a minimum of 6 months from date of receipt.

Statutory authority for regulating the hours of service (HOS) of drivers operating CMVs in interstate commerce is derived from 49 U.S.C. 31136 and 31502. The penalty provisions are located at 49 U.S.C. 521, 522 and 526, as amended. On November 28, 1982, the Federal Highway Administration, the agency previously responsible for administration of the Federal Motor Carrier Safety Regulations (49 CFR 350 et seq.), promulgated a final rule that required a motor carrier to verify the accuracy of the HOS of each driver and to ensure that drivers record their duty status in a specified format (47 FR 53383).

The HOS rules provide two methods of creating a RODS: A paper RODS that provides a grid for the driver to record his or her time and location throughout the duty day, and an Automatic On-Board Recording Device as defined by section 395.15. The HOS regulations exempt employers of certain “short haul” CMV drivers from the RODS requirement if they maintain the employee's U.S. Department of Labor “time card” at the place of business for a period of six months (Section 395.1(e)).

The RODS is an important tool because it provides the information the carrier and enforcement personnel require to determine the compliance of a driver with the HOS rules. The adherence of drivers and motor carriers to the HOS requirements helps FMCSA protect the public by reducing the number of tired CMV drivers on the highways.

Most States receive grants from FMCSA under the Motor Carrier Safety Assistance Program. As a condition of receiving these grants, States agree to adopt and enforce the FMCSRs, including the HOS rules, as State law. As a result, State enforcement inspectors use the RODS and supporting documents to determine whether CMV drivers, in interstate or intrastate commerce, are complying with the HOS rules.

In addition, FMCSA uses the RODS during on-site compliance reviews (CRs) of motor carriers. The CR determines the overall safety rating of a motor carrier, and a negative review can be damaging to a motor carrier's CMV operations because the results of CRs are public information. Many shippers of property use the results of these CRs, as well as other records of a motor carrier's crash and violation history, in selecting a motor carrier to transport their freight. Finally, the RODS have traditionally been the principal document accepted by the judicial system as evidence of a violation of the HOS regulations. This information collection supports the DOT's Strategic Goal of Safety because the information helps the Agency ensure the safe operation of CMVs in interstate commerce on our Nation's highways.

In this ICR, FMCSA proposes an increase in the estimated number of CMV drivers affected by the HOS regulations. This reflects an increase in the total number of CMV operators on the highways today, as compared to 2005 when OMB last approved the Agency's calculation of the IC burden. The total number of interstate and intrastate CMV drivers is currently estimated to be 7.0 million. Of these, 4.6 million are required to complete RODS and furnish supporting documents. The remainder consists of the “short haul” drivers exempt from the RODS requirement.

In this submission, the FMCSA also provides greater specificity in its calculation of the HOS paperwork burden. To do so, the Agency has reorganized its breakdown of the various paperwork tasks performed by drivers and motor carriers. The revised organization allows the reader to distinguish the paperwork burden of the RODS from the paperwork burden of the supporting documents, and the burden of the driver from the burden of the employer (motor carrier).

On November 26, 2007, the FMCSA published a Federal Register notice on this same topic and provided 60 days for public comment (72 FR 66019). The Agency received 38 comments to the docket, including four that appear to have been sent to this docket inadvertently. None of the comments addressed the paperwork burden of the HOS rules. There was no discussion in the comments of the necessity of the paperwork burden, or the accuracy of the information collected. The comments offered no suggestions for minimizing the burden of the IC, or for improving the quality, usefulness, or clarity of the information collected.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: March 12, 2008.
Terry Shelton,
Associate Administrator for Research and Information Technology.

[FR Doc. E8-5477 Filed 3-18-08; 8:45 am]

BILLING CODE 4910-EX-P